DEPARTMENT OF COMMERCE

International Trade Administration

[A-588-804, A-412-801]

Ball Bearings and Parts Thereof From Japan and the United Kingdom: Notice of Court Decision Not in Harmony With Continuation of Antidumping Duty Orders

AGENCY: Import Administration, International Trade Administration, Department of Commerce.

SUMMARY: On June 1, 2005, the Department of Commerce (the Department) initiated and the International Trade Commission (ITC) instituted the second sunset reviews of the antidumping duty orders on ball bearings and parts thereof from Japan and the United Kingdom. On April 20, 2011, the Court of International Trade (CIT) entered its final judgment sustaining the ITC's remand redetermination that revocation of the antidumping duty orders on ball bearings and parts thereof from Japan and the United Kingdom would not be likely to lead to continuation or recurrence of material injury to an industry in the United States within a reasonably foreseeable time.

DATES: Effective Date: April 30, 2011.

FOR FURTHER INFORMATION CONTACT: Sandra Stewart or Richard Rimlinger, AD/CVD Operations, Office 5, Import Administration, International Trade Administration, U.S. Department of Commerce, 14th Street and Constitution Avenue, NW., Washington, DC 20230; telephone: (202) 482-0768 or (202) 482-4477, respectively.

SUPPLEMENTARY INFORMATION:

Background

On May 15, 1989, the Department published the antidumping duty orders on ball bearings and parts thereof from Japan and the United Kingdom (collectively, the orders) in the Federal Register. See Antidumping Duty Orders: Ball Bearings, Cylindrical Roller Bearings, and Spherical Plain Bearings, and Parts Thereof From Japan, 54 FR 20904 (May 15, 1989), and Antidumping Duty Orders and Amendments to the Final Determinations of Sales at Less Than Fair Value: Ball Bearings, and Cylindrical Roller Bearings and Parts Thereof From the United Kingdom, 54 FR 20910 (May 15, 1989). Pursuant to section 751(c) of the Tariff Act of 1930, as amended (the Act), the Department initiated and the ITC instituted the second sunset reviews of the orders on June 1, 2005. See Initiation of Five-Year (“Sunset”) Reviews, 70 FR 31423 (June 1, 2005), and Certain Bearings From China, France, Germany, Italy, Japan, Singapore, and the United Kingdom, 70 FR 31531 (June 1, 2005). See also 19 CFR 351.218. As a result of its reviews, the Department found that revocation of the orders would be likely to lead to the continuation or recurrence of dumping and notified the ITC of the magnitude of the margins likely to prevail were the orders to be revoked. See Antifriction Bearings and Parts Thereof From France, Germany, Italy, and the United Kingdom; Five-Year Sunset Reviews of Antidumping Duty Orders; Final Results, 70 FR 58183 (October 5, 2005), Ball Bearings and Parts Thereof From Japan and Singapore; Five-Year Sunset Reviews of Antidumping Duty Orders; Final Results, 71 FR 26321 (May 4, 2006), and Ball Bearings and Parts Thereof From Japan; Five-Year Sunset Review of Antidumping Duty Order: Amended Final Results, 71 FR 30378 (May 26, 2006).

On August 31, 2006, the ITC published its determination that, pursuant to section 751(c) of the Act, revocation of the orders, among others, would be likely to lead to the continuation or recurrence of material injury to an industry in the United States within a reasonably foreseeable time. See Certain Bearings From China, France, Germany, Italy, Japan, Singapore, and the United Kingdom, 71 FR 51850 (August 31, 2006), and ITC Publication 3876 (August 2006) entitled Certain Bearings from China, France, Germany, Italy, Japan, Singapore, and the United Kingdom, Investigation Nos. 731-TA-344, 391-A, 392-A and C, 393-A, 394-A, 396, and 399-A (Second Review). NSK Corporation, NSK Ltd., and NSK Europe Ltd. and JTEKT Corporation and Koyo Corporation of U.S.A. filed appeals of this determination with the CIT.

In its third ¹ and fourth ² remand determinations, the ITC found that revocation of the orders would not be likely to lead to the continuation or recurrence of material injury to an industry in the United States within a reasonably foreseeable time. On April 20, 2011, the CIT affirmed the ITC's fourth remand and entered judgment in the case. See NSK v. United States, Court No. 06-334, Slip Op. 11-43 (CIT April 20, 2011) (NSK). Therefore, there is now a final CIT decision in the case sustaining negative injury determinations concerning ball bearings and parts thereof from the United Kingdom and Japan.³ Id.

¹ See ITC Publication 4194, Ball Bearings and Parts Thereof From Japan and the United Kingdom, Investigation Nos. 731-TA-394A and 399A (Second Review) (Third Remand) (August 2010).

² See ITC Publication 4223, Certain Ball Bearings and Parts Thereof From Japan and the United Kingdom, Investigation Nos. 394-A and 399-A (Second Review) (Fourth Remand) (March 2011).

³ Although the CIT issued a temporary stay of the effect of its judgment, it lifted the stay on May 13, 2011. On May 17, 2011, the Federal Circuit issued a temporary stay of the judgment in this case. NSK Corp. v. United States, Court Nos. 2011-1362, -1382, -1383 (May 17, 2011). The Department will not revoke the applicable orders while the stay remains in place.

Timken Notice

In its decision in Timken Co. v. United States, 893 F.2d 337, 341 (Fed. Cir. 1990), the Court of Appeals for the Federal Circuit held that, pursuant to section 516A(c)(1) of the Act, the Department must publish a notice of a court decision that is not “in harmony” with a Department determination and must suspend liquidation of entries pending a “conclusive” court decision. The April 20, 2011, decision by the CIT in NSK constitutes a final CIT decision that is not in harmony with the Department's continuation of the orders (Tapered Roller Bearings and Parts Thereof From the People's Republic of China and Ball Bearings and Parts Thereof From France, Germany, Italy, Japan, and the United Kingdom: Continuation of Antidumping Duty Orders, 71 FR 54469 (September 15, 2006)). This notice is published in fulfillment of the publication requirement in Timken.

Accordingly, the Department intends to issue instructions to U.S. Customs and Border Protection to suspend liquidation of all unliquidated entries of subject merchandise from Japan and the United Kingdom which are entered, or withdrawn from warehouse, for consumption on or after July 11, 2005, the five-year anniversary date of the continuation of the orders. See Continuation of Antidumping Duty Orders: Certain Bearings From France, Germany, Italy, Japan, Singapore, the United Kingdom and the People's Republic of China, 65 FR 42665 (July 11, 2000), and 19 CFR 351.222(i)(2). Pursuant to Timken, all entries entered, or withdrawn from warehouse, for consumption on or after July 11, 2005, that remain unliquidated and not deemed liquidated as of April 30, 2011, will be suspended during the pendency of the appeals process so that they may be liquidated at the court-approved rate after a “conclusive” court decision.

This notice is published pursuant to section 516A(c)(1) of the Act.

Dated: June 10, 2011.
Ronald K. Lorentzen
Deputy Assistant Secretary for Import Administration.

[FR Doc. 2011-15128 Filed 6-16-11; 8:45 am]

BILLING CODE 3510-DS-P